DEPARTMENT OF THE INTERIOR

Bureau of Indian Affairs

Privacy Act of 1974, as Amended; Amendment of an Existing System of Records

AGENCY: Bureau of Indian Affairs, Interior.

ACTION: Proposed amendment of existing Privacy Act system of records.

SUMMARY: Under the Privacy Act of 1974, as amended (5 U.S.C. 552a), the Bureau of Indian Affairs (BIA) is issuing public notice of its intent to amend an existing Privacy Act system of records notice entitled Interior, BIA—13 “Indian Loan Files,” published at 48 FR 41098 (September 13, 1983).

DATES: Comments must be received by August 25, 2008.

ADDRESSES: Any persons interested in commenting on this proposed amendment may do so by submitting comments in writing to the Privacy Act Officer, Bureau of Indian Affairs, 625 Herndon Parkway, Herndon, VA 20170, or by e-mail to Joan.Tyler@bia.gov

FOR FURTHER INFORMATION CONTACT: Darlene Greifenberger, Office of Indian Energy and Economic Development, 1951 Constitution Avenue, NW., MS SIB-20, Washington, DC 20245, 202-513-7680 or by e-mail at Darlene.Greifenberger@bia.gov

SUPPLEMENTARY INFORMATION: This notice is published pursuant to the Privacy Act of 1974 (5 U.S.C. 552a(e)(4)) and is in exercise of authority delegated by the Secretary of the Interior to the Assistant Secretary—Indian Affairs in 209 DM 8.1.

The Office of Indian Energy and Economic Development Loan Guaranty and Insurance Program was developed to implement the Indian Financing Act of 1974 (25 U.S.C. 1481), as amended. This law requires the Department of the Interior to encourage private commercial lenders to make loans to Indian businesses they might otherwise deny because of insufficient familiarity with Indian business prospects. The program offers private lenders enhanced loan security with a partial loan guaranty which allows a modest federal investment to leverage large amounts of private capital for Indian business development. The system of records supporting this program, now known as the Loan Management and Accounting System (LOMAS), protects information contained in loan applications and supporting documents.

The purpose of this notice is to amend the Privacy Act System of Records entitled Interior, BIA—13: “Indian Loan Files,” by (1) Changing the name of the system to Interior, BIA—13: “Loan Management and Accounting System (LOMAS)”; (2) updating the addresses of the system locations, system managers, the categories of individuals covered by the system; (3) updating the information regarding disclosures outside the Department of the Interior; and (4) updating the storage, retrievability and safeguards statements to incorporate the changes since the system notice was last published.

A copy of the notice, with changes incorporated, is attached.

Dated: July 9, 2008.
George T. Skibine,
Acting Deputy Assistant Secretary for Policy and Economic Development—Indian Affairs.

SYSTEM NAME

Loan Management and Accounting System (LOMAS)—Interior, BIA—13.

SYSTEM LOCATION

(1) Office of Indian Energy and Economic Development, 1951 Constitution Avenue NW., MS SIB-20, Washington, DC, 20245.

(2) Loan Accounting Section, Bureau of Indian Affairs (BIA), 1001 Indian School Road NW., Ste. 349, Albuquerque, NM, 87104. (Send correspondence to: P.O. Box 7430, Albuquerque, NM, 87194-7430.)

(3) System Administrator—LOMAS, National Business Center, 421 Gold Street SW., Suite 103, Albuquerque, NM, 87102.

(4) BIA Regional and Agency credit offices. For a listing of specific locations, contact the System Manager, at the address provided below.

CATEGORIES OF INDIVIDUALS COVERED BY THE SYSTEM

(1) Applicants who applied for or received loan guaranties, loan insurance, or interest subsidies.

(2) Applicants who applied for guarantied bonds.

(3) Purchasers of guarantied or insured loans.

CATEGORIES OF RECORDS IN THE SYSTEM:

(1) Loan applications, including but not limited to loan collateral information, loan collection information, loan approval information, loan budget validation, and loan disbursement information;

(2) Supporting documents for loans;

(3) Borrower information including name, address, birth date, phone number, loan guaranty number, tribal name, record of payment cards, guaranty agreements, eligibility certificates, default documents, and/or promissory notes;

(4) Information pertaining to individuals who refuse to make required loan payments when it is determined by the Department of Treasury that they have sufficient assets to pay and/or as a result of the individual misuse of loan proceeds;

(5) Interest subsidy requests;

(6) Loan extension approvals;

(7) Information on loan applications not approved for guaranty or insurance; and

(8) Account information for individuals approved for loans, which includes loan account status, loan advance and subsidy status and approval status, loan number and borrower ID.

AUTHORITY FOR MAINTENANCE OF THE SYSTEM:

This system of records is maintained under the authority of Public Law 98-449, codified at 25 U.S.C. 1451, which authorizes the Department of the Interior to finance economic development on Indian Reservations.

ROUTINE USES OF RECORDS MAINTAINED IN THE SYSTEM, INCLUDING CATEGORIES OF USERS AND THE PURPOSES OF SUCH USES:

The primary use of the records is to administer the Loan Guaranty and Insurance Program by tracking and recording payments and unpaid balances and providing information on payments made for paying interest subsidy, credits obtained, service loans made, and premiums paid by lenders.

Disclosures outside the Department of the Interior may also be made:

(1) To the Department of the Treasury and/or Justice in the form of information on individual delinquent borrowers or borrowers who have misused funds in order to support debt collection efforts.

(2) To Congress in the form of periodic reports on the status of the Indian Affairs Loan Guarantee, Insurance and Interest Subsidy Program in order to document the use of program funds.

(3) To credit reporting agencies in the form of basic information regarding payment delinquencies in order to satisfy Federal claims collection standards.

(4) (a) To any of the following entities or individuals, when the circumstances set forth in paragraph (b) are met:

(i) The Department of Justice (DOJ);

(ii) A court, adjudicative or other administrative body;

(iii) A party in litigation before a court or adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purposes for which the records were compiled.

(5) To a congressional office in response to a written inquiry that an individual covered by the system, or the heir of such individual if covered individual is deceased, has made to the office.

(6) To any criminal, civil, or regulatory law enforcement authority (whether federal, state, territorial, local, tribal or foreign) when a record, either alone or in conjunction with other information, indicates a violation or potential violation of law—criminal, civil, or regulatory in nature, and the disclosure is compatible with the purpose for which the records were compiled.

(7) To an official of another Federal agency to provide information needed in the performance of official duties related to reconciling or reconstructing data files or to enable that agency to respond to an inquiry by the individual to whom the record pertains.

(8) To Federal, State, territorial, local, tribal, or foreign agencies that have requested information relevant or necessary to the hiring, firing, or retention of an employee or contractor, or the issuance of a security clearance, license, contract, grant, or other benefit, when the disclosure is compatible with the purpose for which the records were compiled.

(9) To representatives of the National Archives and Records Administration to conduct records management inspections under the authority of 44 U.S.C. 2904 and 2906.

(10) To state and local governments and tribal organizations to provide information needed in response to court order and/or discovery purposes related to litigation, when the disclosure is compatible with the purpose for which the records were compiled.

(11) To an expert, consultant, or contractor (including employees of the contractor) of DOI that performs services requiring access to these records on DOI's behalf to carry out the purposes of the system.

(12) The appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made of such agencies, entities, and persons who are reasonably necessary to assist in connection with the Department's efforts to respond to the suspected or confirmed compromise and prevent, minimize, or remedy such harm.

(13) To the Office of Management and Budget during the coordination and clearance process in connection with legislative affairs as mandated by OMB Circular A-19.

(14) To the Department of the Treasury to recover debts owed to the United States.

(15) To the news media when the disclosure is compatible with the purpose for which the records were compiled.

DISCLOSURES TO CONSUMER REPORTING AGENCIES:

Pursuant to 5 U.S.C. 552a(b)(12), records can be disclosed to consumer reporting agencies as they are defined by the Fair Credit Reporting Act (15 U.S.C. 1681a(f)) or the Federal Claims Collection Act of 1966 (31 U.S.C. 3701(a)(3)).

POLICIES AND PRACTICES FOR STORING, RETRIEVING, ACCESSING, RETAINING, AND DISPOSING OF RECORDS IN THE SYSTEM:

STORAGE:

Records are stored in both manual and electronic format. Manual records are maintained in letter files, application files, and computer printouts. Electronic records are maintained in network access storage, on hard disks, and on magnetic tapes.

RETRIEVABILITY:

Records are:

(a) Indexed by name of borrower, loan guaranty number, and tribal name when applicable.

(b) Retrieved by manual search or computer inquiry.

SAFEGUARDS:

LOMAS is maintained with controls meeting safeguard requirements identified in Departmental Privacy Act Regulations (43 CFR 2.51) for manual and automated records. Access to records is limited to authorized personnel whose official duties require such access; agency officials have access only to records pertaining to their agencies.

(1) Physical Security: Paper or electronic format records are maintained in locked file cabinets and/or in secured rooms.

(2) Technical Security: Electronic records are maintained in conformity with Office of Management and Budget and Departmental guidelines reflecting the implementation of the Federal Information Security Management Act. Electronic data is protected through user identification, passwords, database permissions, and software controls. These security measures establish different degrees of access for different types of users. An audit trail is maintained and reviewed periodically to identify unauthorized access. A Privacy Impact Assessment was completed for LOMAS and is updated at least annually to ensure that Privacy Act requirements and personally identifiable information safeguard requirements are met.

(3) Administrative Security: All DOI and contractor employees with access to LOMAS are required to complete Privacy Act, Records Management Act, and Security Training.

RETENTION AND DISPOSAL:

Records relating to individuals covered by this system are retained in accordance with the 16 Bureau of Indian Affairs Manual (BIAM), as approved by the National Archives and Records Administration (NARA), and are scheduled for permanent retention. All records of guarantied or insured loans are stored permanently. Records of loans that are paid, cancelled, or otherwise disposed of are archived. Records of rejected loans are stored for 1 year and then archived.

SYSTEM MANAGER AND ADDRESS:

Director, Office of Indian Energy and Economic Development, Office of the Assistant Secretary—Indian Affairs, 1951 Constitution Avenue, NW., MS SIB-20,Washington, DC 20245.

NOTIFICATION PROCEDURES:

Inquiries regarding the existence of records should be addressed to the System Manager. The request must be in writing, signed by the requester, and meet the requirements of 43 CFR 2.60.

RECORDS ACCESS PROCEDURES:

A request for access may be addressed to the System Manager. The request must be in writing, signed by the requester, and meet the requirements of 43 CFR 2.63.

CONTESTING RECORD PROCEDURES:

A petition for amendment should be addressed to the System Manager. The request must be in writing, signed by the requester, and meet the content requirements of 43 CFR 2.71.

RECORD SOURCE CATEGORIES:

Information is received from individuals on whom the records are maintained, commercial banks, BIA employees and contractors, and purchasers of guarantied or insured loans.

EXEMPTIONS CLAIMED FOR THE SYSTEM:

None.

[FR Doc. E8-16098 Filed 7-14-08; 8:45 am]

BILLING CODE 4312-RY-P